DEPARTMENT OF THE INTERIOR

National Park Service

[NPS-WASO-NAGPRA-NPS0028301; PPWOCRADN0-PCU00RP14.R50000]

Notice of Inventory Completion: State University of New York at Oswego, Oswego, NY

AGENCY: National Park Service, Interior.

ACTION: Notice.

SUMMARY: The State University of New York at Oswego has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the State University of New York at Oswego. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the State University of New York at Oswego at the address in this notice by August 19, 2019.

ADDRESSES: Alanna Ossa, NAGPRA Coordinator, State University of New York at Oswego, 313 Mahar Hall, Department of Anthropology, Oswego, NY 13126, telephone (315) 312-4172, email alanna.ossa@oswego.edu.

SUPPLEMENTARY INFORMATION: Notice is here given in accordance with the Native American Graves Protection and Repatriation Act (NAGPRA), 25 U.S.C. 3003, of the completion of an inventory of human remains under the control of the State University of New York at Oswego, Oswego, NY. The human remains were removed from sites in Oswego, Onondaga, Cayuga, Madison, Wayne, and St. Lawrence Counties, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the SUNY Oswego professional staff in consultation with representatives of the Oneida Indian Nation (previously listed as the Oneida Nation of New York) and the Onondaga Nation. The Cayuga Nation were also invited to consult, but did not participate.

History and Description of the Remains

At an unknown date, human remains consisting, at minimum, of two individuals were removed from an unknown location. These human remains were donated to Peter Pratt while he was teaching at SUNY Oswego, and he added them to the school's collection, and listed the donor as “Jones.” Based on cranial and other bone metric traits, the human remains belong to two Native American adults (older than 45) of indeterminate sex. No known individuals were identified. No associated funerary objects are present.

Based on the history of Peter Pratt's research program and the provenience of the materials recovered from his multiple decades of excavations in central NY, these human remains were highly likely to have been donated during one of his excavations within Oneida, Onondaga, and Cayuga sites in Oswego, Onondaga, Cayuga, Madison, Wayne, and St. Lawrence Counties, NY. Such donations are commonly noted among Pratt's field school materials.

At an unknown date, human remains consisting, at minimum, of one individual were recovered from an unknown location. These human remains were transferred to SUNY Oswego as a result of one of Peter Pratt's Field School projects. The human remains consist of one adult male. No known individuals were identified. No associated funerary objects are present.

Based on the history of Peter Pratt's research program and the provenience of the materials recovered from his multiple decades of excavations in central NY, these human remains were recovered from one or several of the many field school projects undertaken by Peter Pratt within identified Oneida, Onondaga, and Cayuga sites within Oneida, Onondaga, and Cayuga sites in Oswego, Onondaga, Cayuga, Madison, Wayne, and St. Lawrence Counties, NY. Although labels were lost or misplaced over the five decades or so of excavations, these human remains were removed from Onondaga, Oneida, or Cayuga affiliated sites.

Determinations Made by the State University of New York at Oswego

Officials of the State University of New York at Oswego have determined that:

• Pursuant to 25 U.S.C. 3001(9), the human remains described in this notice represent the physical remains of three individuals of Native American ancestry.

• Pursuant to 25 U.S.C. 3001(2), there is a relationship of shared group identity that can be reasonably traced between the Native American human remains and associated funerary objects and the Cayuga Nation; Oneida Indian Nation (previously listed as the Oneida Nation of New York); and the Onondaga Nation (hereafter referred to as “The Tribes”).

Additional Requestors and Disposition

Lineal descendants or representatives of any Indian Tribe or Native Hawaiian organization not identified in this notice that wish to request transfer of control of these human remains and associated funerary objects should submit a written request with information in support of the request to Alanna Ossa, NAGPRA Coordinator, State University of New York at Oswego, 313 Mahar Hall, Department of Anthropology, Oswego, NY 13126, telephone (315) 312-4172, email alanna.ossa@oswego.edu, by August 19, 2019. After that date, if no additional requestors have come forward, transfer of control of the human remains and associated funerary objects to The Tribes may proceed.

The State University of New York at Oswego is responsible for notifying The Tribes that this notice has been published.

Dated: June 25, 2019.
Melanie O'Brien,
Manager, National NAGPRA Program.

[FR Doc. 2019-15441 Filed 7-18-19; 8:45 am]

BILLING CODE 4312-52-P